SMALL BUSINESS ADMINISTRATION

[Disaster Declaration #17330 and #17331; WASHINGTON Disaster Number WA-00102]

Presidential Declaration of a Major Disaster for Public Assistance Only for the State of Washington

AGENCY: Small Business Administration.

ACTION: Notice.

SUMMARY: This is a Notice of the Presidential declaration of a major disaster for Public Assistance Only for the State of WASHINGTON (FEMA-4635-DR), dated 01/27/2022.

Incident: Severe Storms, Straight-line Winds, Flooding, Landslides, and Mudslides.

Incident Period: 11/05/2021 through 12/02/2021.

DATES: Issued on 01/27/2022.

Physical Loan Application Deadline Date: 03/28/2022.

Economic Injury (EIDL) Loan Application Deadline Date: 10/27/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 01/27/2022, Private Non-Profit organizations that provide essential services of a governmental nature may file disaster loan applications at the address listed above or other locally announced locations.

The following areas have been determined to be adversely affected by the disaster:

Primary Areas:Clallam, Island, Jefferson, Lewis, San Juan, Skagit, and Whatcom Counties, the Hoh Indian Tribe, Lummi Tribe of the Lummi Reservation, Nooksack Indian Tribe of Washington, Quileute Tribe, and the Swinomish Indian Community.

The Interest Rates are:

| Percent
For Physical Damage:
Non-Profit Organizations with Credit Available Elsewhere | 1.875
Non-Profit Organizations without Credit Available Elsewhere
1.875
For Economic Injury:
Non-Profit Organizations without Credit Available Elsewhere | 1.875

The number assigned to this disaster for physical damage is 17330 6 and for economic injury is 17331 0.

(Catalog of Federal Domestic Assistance Number 59008)

Barbara Carson,
Deputy Associate Administrator for Disaster Assistance.

[FR Doc. 2022-02193 Filed 2-2-22; 8:45 am]

BILLING CODE 8026-03-P